DEPARTMENT OF ENERGY

Federal Energy Regulatory Commission

[Docket No. CP17-490-000]

Transcontinental Gas Pipe Line Company, LLC; Notice of Schedule for Environmental Review of the Rivervale South to Market Project

On August 31, 2017, Transcontinental Gas Pipe Line Company, LLC (Transco) filed an application in Docket No. CP17-490-000 requesting a Certificate of Public Convenience and Necessity pursuant to Section 7(c) of the Natural Gas Act to construct and operate certain natural gas pipeline facilities entirely within New Jersey. The proposed project is known as the Rivervale South to Market Project (Project), and would enable Transco to provide an additional 190 million cubic feet (MMcf) per day of firm transportation service to meet supply needs for the 2019/2020 winter heating season.

On September 15, 2017, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—March 16, 2018

90-day Federal Authorization Decision Deadline—June 14, 2018

If a schedule change becomes necessary, additional notice will be provided so that the relevant agencies are kept informed of the Project's progress.

Project Description

Transco proposes to construct, modify, upgrade, and operate various facilities in connection with its proposed Rivervale South to Market Project in Bergen, Hudson, and Union Counties, New Jersey. According to Transco, the Project would increase the firm delivery transportation capacity of its existing pipeline system by 190 MMcf per day of natural gas from the Rivervale interconnection to existing Compressor Station 210 in Mercer County and the Central Manhattan meter and regulation station (M&R) station in Hudson County. The Compressor Station 210 pooling point would receive 140 MMcf, and the Central Manhattan M&R would receive 50 MMcf.

The Project would consist of the following facilities:

• Construct 0.61 mile of 42-inch-diameter pipeline loop ¹ along Transco's Mainline A, from mileposts 1825.80 to 1826.41 (Bergen County);

¹ A loop is a segment of pipe that is usually installed adjacent to an existing pipeline and connected to it at both ends. The loop allows more gas to be moved through the system.

• uprate 10.35 miles of the existing 24-inch-diameter North New Jersey Extension from the Paramus M&R station (Bergen County) to the Orange and Rockland M&R station (Bergen County). The North New Jersey Extension would be uprated from a maximum allowable operating pressure of 650 pounds per square inch gauge (“psig”) to 812 psig;

• upgrade the existing valves, including overpressure protection valves, and yard piping, and related activities at the Paramus, Central Manhattan, Orange and Rockland, and Emerson M&R stations; and

• construct additional facilities, such as mainline valves, cathodic protection, internal inspection device (pig ²) launchers and receivers, and communication equipment.

² A pig is a tool that the pipeline company inserts into and pushes through the pipeline for cleaning the pipeline, conducting internal inspections, or other purposes.

Background

On October 19, 2017, the Commission issued a Notice of Intent to Prepare an Environmental Assessment for the Proposed Rivervale South to Market Project and Request for Comments on Environmental Issues (NOI). The NOI was sent to affected landowners; federal, state, and local government agencies; elected officials; environmental and public interest groups; Native American tribes; other interested parties; and local libraries and newspapers. In response to the NOI, the Commission received comments from the Borough of Emerson, New Jersey; the U.S. Fish and Wildlife Service; the U.S. Environmental Protection Agency; Food & Water Watch; and the New Jersey Sierra Club. Additionally, in response to the Notice of Application, the Commission received comments from the Hackensack Riverkeeper. The primary issues raised by the commentors are impacts on drinking water, wetlands, and wildlife; the necessity of the Project; pipeline safety; pollution prevention practices; the continued reliance on fossil fuels; long-term environmental impacts; improper segmentation; evaluation of cumulative, indirect, and secondary impacts; environmental impacts from increased shale gas development; evaluation of alternatives, including those outside FERC's jurisdiction; climate change; environmental justice; and the need for an Environmental Impact Statement.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP17-490), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: January 17, 2018.
Kimberly D. Bose,
Secretary.

[FR Doc. 2018-01112 Filed 1-22-18; 8:45 am]

BILLING CODE 6717-01-P